DEPARTMENT OF THE INTERIOR

Notice of Natural Resource Damage Assessment and Restoration Advisory Committee Meeting

AGENCY: Office of the Secretary, Natural Resource Damage Assessment and Restoration Program Office.

ACTION: Notice; FACA Committee Meeting Announcement.

SUMMARY: As required by the Federal Advisory Committee Act, Public Law 92-463, the Department of the Interior, Natural Resource Damage Assessment and Restoration Program Office gives notice of the second meeting of the Department's Natural Resource Damage Assessment and Restoration Advisory Committee. The Advisory Committee will meet at the U.S. Department of the Interior, South Building Auditorium, 1951 Constitution Avenue NW., Washington, DC 20240 from 8:30 a.m. to 5 p.m. on March 2, 2006. Members of the public are invited to attend the Committee Meeting to listen to the committee proceedings and to provide public input.

Public Input: Any member of the public interested in providing public input at the Committee Meeting should contact Mr. Steve Glomb, whose contact information is listed under the FOR FURTHER INFORMATION CONTACT section of this notice. Each individual providing oral input is requested to limit those comments to three minutes. This time frame may be adjusted to accommodate all those who would like to speak. Requests to be added to the public speaker list must be received in writing (letter, e-mail, or fax) by noon eastern standard time on February 21, 2006. Anyone wishing to submit written comments should provide a copy of those comments to Mr. Glomb in the following formats: One hard copy with original signature, and one electronic copy via e-mail (acceptable file formats are: Adobe Acrobat, WordPerfect, Word, or Rich Text files) by noon eastern standard time on February 21, 2006.

Document Availability: Interested individuals may view the draft agenda for the meeting online at http://restoration.doi.gov/faca or may request the draft agenda from Mr. Glomb. In preparation for this meeting of the Advisory Committee, the Committee and the public can find helpful background information at the Restoration Program Web site http://restoration.doi.gov. The site provides a good introduction to the program for those who are relatively new to the damage assessment and restoration arena and a useful reference for seasoned practitioners and policy leaders. Links to the statutory and regulatory framework for the program are found at http://restoration.doi.gov/laws.htm. DOI Program policies are found at http://restoration.doi.gov/policy.htm.

Agenda for Meeting

The agenda will cover the following principal subjects:

—Welcome/Kickoff address by senior Departmental official.

—Potential amendment of committee by-laws.

—Discussion of subcommittee reports.

—Formal public input (if any).

—Finalize subcommittee scopes and workplans.

Meeting Access: Individuals requiring special accommodation at this meeting must contact Mr. Steve Glomb (see contact information below) by noon eastern standard time on February 21, 2006, so that appropriate arrangements can be made.

DATES: March 2, 2006, from 8:30 a.m. to 5 p.m. (open to the public).

ADDRESSES: Auditorium, U.S Department of the Interior, South Building, 1951 Constitution Avenue NW., Washington, DC 20240.

All individuals attending the Committee Meeting will be required to present photo identification to security officers to gain access to the South Interior Building.

FOR FURTHER INFORMATION CONTACT: Steve Glomb, U.S. Department of the Interior, Natural Resource Damage Assessment and Restoration Program, Mail Stop MIB 4449, 1849 C Street NW., Washington, DC 20240; phone 202-208-4863; fax 202-208-2681; or steve_glomb@ios.doi.gov.

Dated: February 9, 2006.
Frank M. DeLuise,
Designated Federal Officer, DOI Natural Resource Damage Assessment and Restoration Advisory Committee.

[FR Doc. E6-2089 Filed 2-14-06; 8:45 am]

BILLING CODE 4310-RK-P